NUCLEAR REGULATORY COMMISSION

[Docket No. 50-302; NRC-2011-0024]

In the Matter of Duke Energy Florida, Inc., and Seminole Electric Cooperative, Inc., Crystal River Unit 3 Nuclear Generating Plant

AGENCY: Nuclear Regulatory Commission.

ACTION: Direct transfer of license; order.

SUMMARY: The U.S. Nuclear Regulatory Commission (NRC) is issuing an order approving the direct transfer of the 1.6994 percent of Crystal River Unit 3 Nuclear Generating Plant (CR-3) currently owned by Seminole Electric Cooperative, Inc. (SEC), to Duke Energy Florida, Inc. (DEF). The NRC is also amending the facility-operating license for administrative purposes to reflect the license transfer of the 1.6994 percent ownership from SEC to DEF. The NRC confirmed that the transfer of the license is otherwise consistent with the applicable provisions of law, regulations, and orders issued by the Commission. The order approving the transfer of the 1.6994 percent of CR-3 currently owned by SEC, to DEF became effective on August 10, 2016.

DATES: The Order was issued on August 10, 2016, and is effective for one year.

ADDRESSES: Please refer to Docket ID NRC-2011-0024 when contacting the NRC about the availability of information regarding this document. You may obtain publicly available information related to this document using any of the following methods:

• Federal Rulemaking Web site: Go to http://www.regulations.gov and search for Docket ID NRC-2011-0024. Address questions about NRC dockets to Carol Gallagher; telephone: 301-415-3463; or via email: Carol.Gallagher@nrc.gov. For technical questions, contact the individual listed in the FOR FURTHER INFORMATION CONTACT section of this document.

• NRC's Agencywide Documents Access and Management System (ADAMS): You may obtain publicly-available documents online in the ADAMS Public Documents collection at: http://www.nrc.gov/reading-rm/adams.html. To begin the search, select “ADAMS Public Documents” and then select “Begin Web-based ADAMS Search.” For problems with ADAMS, please contact the NRC's Public Document Room (PDR) reference staff at: 1-800-397-4209, 301-415-4737, or via email to: pdr.resource@nrc.gov. The license transfer Order, the NRC safety evaluation supporting the staff's findings, and the conforming license amendment are available in ADAMS under Accession Nos. ML16123A073, ML16123A074, and ML16123A057, respectively.

• NRC's PDR: You may examine and purchase copies of public documents at the NRC's PDR, Room O1-F21, One White Flint North, 11555 Rockville Pike, Rockville, Maryland 20852.

FOR FURTHER INFORMATION CONTACT: John B. Hickman, Office of Nuclear Material Safety and Safeguards, U.S. Nuclear Regulatory Commission, Washington, DC 20555-0001; telephone: 301-415-3017, email: John.Hickman@nrc.gov.

SUPPLEMENTARY INFORMATION: The text of the Order is attached.

Dated at Rockville, Maryland, this 1st day of September 2016.
For the U.S. Nuclear Regulatory Commission.
Andrea L. Kock,
Deputy Director, Division of Decommissioning, Uranium Recovery and Waste Programs, Office of Nuclear Material Safety and Safeguards.

Attachment—Order Approving the Transfer of License and Conforming Amendment

United States of America

Nuclear Regulatory Commission

In the Matter of Duke Energy Florida, Inc.; Crystal River Unit 3 Nuclear Generating Plant

Docket No. 50-302

License No. DPR-72

Order Approving Transfer of License and Conforming Amendment

I.

Duke Energy Florida, Inc. (DEF or the applicant) and Seminole Electric Cooperative, Inc., are holders of Facility Operating License No. DPR-72, which authorizes the possession of the Crystal River Unit 3 Nuclear Generating Plant (CR-3). Facility Operating License No. DPR-72 also authorizes DEF (currently owner of 98.3006 percent of CR-3) to use and operate CR-3. CR-3 is located in Red Level, Florida, in Citrus County, about 5 miles south of Levy County. The site is 7.5 miles northwest of Crystal River, Florida, and 90 miles north of St. Petersburg, Florida. CR-3 is situated on the Gulf of Mexico, within the Crystal River Energy Complex.

CR-3 has been shut down since September 26, 2009, and the final removal of fuel from the reactor vessel was completed on May 28, 2011. By letter dated February 20, 2013, the licensee submitted a certification to the U.S. Nuclear Regulatory Commission (NRC) of permanent cessation of power operations and the removal of fuel from the reactor vessel, pursuant to Sections 50.82(a)(1)(i) and 50.82(a)(1)(ii) of Title 10 of the Code of Federal Regulations (10 CFR). Upon docketing of this certification, the 10 CFR part 50 license for CR-3 no longer authorizes operation of the reactor or emplacement or retention of fuel into the reactor vessel, as specified in 10 CFR 50.82(a)(2).

II.

By application dated July 28, 2015, as supplemented by letter dated September 22, 2015 (collectively, the application), DEF requested that the NRC approve the direct transfer of control of Facility Operating License No. DPR-72 for CR-3, to the extent held by Seminole Electric Cooperative, Inc., to DEF. Seminole Electric Cooperative, Inc. currently owns 1.6994 percent of CR-3. As a result of the transaction, DEF will become the sole owner of CR-3.

The applicant also requested approval of a conforming administrative license amendment that would remove the references to Seminole Electric Cooperative, Inc., in the license. DEF did not propose any physical changes to the facilities or operational changes in the application. After completion of the proposed transfer, DEF will be the sole owner of CR-3, and DEF will remain the operator of the facility.

DEF requested approval of the direct transfer of the facility operating license and the conforming license amendment pursuant to 10 CFR 50.80, “Transfer of licenses,” and 10 CFR 50.90, “Application for amendment of license, construction permit, or early site permit.” A notice entitled, “Crystal River Nuclear Generating Plant, Unit 3; Consideration of Approval of Transfer of License and Conforming Amendment,” was published in the Federal Register on January 4, 2016 (81 FR 98). The NRC did not receive any public comments regarding the proposed license transfer.

Pursuant to 10 CFR 50.80, no license, or any right thereunder, shall be transferred, directly or indirectly, through transfer of control of the license, unless the Commission provides its consent in writing. Upon review of the information in the licensee's application and other information before the Commission, and relying upon the representations and agreements contained in the application, the NRC staff has determined that DEF is qualified to hold the ownership interests in the facility previously held by Seminole Electric Cooperative, Inc. The NRC staff has also determined that the direct transfer of ownership interests in the facility to DEF, as described in the application, is otherwise consistent with applicable provisions of laws, regulations, and orders issued by the Commission, subject to the conditions set forth below. The NRC staff has further found that the application for the proposed license amendment complies with the standards and requirements of the Atomic Energy Act of 1954, as amended (the Act), and the Commission's rules and regulations set forth in 10 CFR Chapter I; the facility will operate in conformity with the applications, the provisions of the Act, and the rules and regulations of the Commission; there is reasonable assurance that the activities authorized by the proposed license amendment can be conducted without endangering the health and safety of the public and that such activities will be conducted in compliance with the Commission's regulations; the issuance of the proposed license amendment will not be inimical to the common defense and security or to the health and safety of the public; and the issuance of the proposed amendment will be in accordance with 10 CFR part 51 of the Commission's regulations and all applicable requirements have been satisfied.

The findings set forth above are supported by the NRC safety evaluation dated August 10, 2016.

III.

Accordingly, pursuant to Sections 161b, 161i, 161o and 184 of the Act, 42 U.S.C. Sections 2201(b), 2201(i), 2201(o) and 2234; and 10 CFR 50.80, IT IS HEREBY ORDERED that the direct transfer of the license, as described herein, to DEF is approved, subject to the following condition:

1. DEF shall provide satisfactory documentary evidence to the Director of the Office of Nuclear Material Safety and Safeguards that it has obtained the insurance required of a licensee under 10 CFR part 140, “Financial Protection Requirements and Indemnity Agreements,” in the appropriate amount pursuant to the exemption to 10 CFR 140.11(a)(4) granted to DEF by NRC letter dated April 27, 2015 (Agencywide Documents Access and Management System (ADAMS) Accession No. ML14183B338).

It is further ordered that, consistent with 10 CFR 2.1315(b), the license amendment that makes changes, as indicated in Enclosure 2 to the cover letter forwarding this Order, to conform the license to reflect the subject direct license transfer is approved. The license amendment shall be issued and made effective at the time the proposed direct transfer is completed.

It is further ordered that after receipt of all required regulatory approvals of the proposed direct transfer action, DEF shall inform the Director of the Office of Nuclear Material Safety and Safeguards in writing of such receipt, and the date of closing of the transfer no later than one business day prior to the date of the closing of the direct transfer. Should the direct transfer not be completed within 1 year of this Order's date of issue, this Order shall become null and void, provided, however, that upon written application and good cause shown, such date may be extended by Order.

This Order is effective upon issuance.

For further details with respect to this Order, see the initial application dated July 28, 2015 (ADAMS Accession No. ML15216A123), as supplemented by letter dated September 22, 2015 (ADAMS Accession No. ML15265A590), and the safety evaluation dated August 10, 2016 (ADAMS Accession No. ML16173A019), which are available for public inspection at the Commission's Public Document Room (PDR), located at One White Flint North, 11555 Rockville Pike, Room O-1 F21 (First Floor), Rockville, Maryland, and accessible electronically though the ADAMS Public Electronic Reading Room on the Internet at the NRC Web site, http://www.nrc.gov/reading-rm/adams.html. Persons who do not have access to ADAMS or who encounter problems in accessing the documents located in ADAMS should contact the NRC PDR reference staff by telephone at 1-800-397-4209, 301-415-4737, or by email at pdr.resource@nrc.gov.

Dated at Rockville, Maryland, this 10th day of August 2016.
For the Nuclear Regulatory Commission.
Scott W. Moore,
Acting Director, Office of Nuclear Material Safety and Safeguards.

[FR Doc. 2016-22232 Filed 9-14-16; 8:45 am]

BILLING CODE 7590-01-P